DEPARTMENT OF HEALTH AND HUMAN SERVICES

Administration for Children and Families

Submission for Office of Management and Budget Review: Home Study and Post Release Services Provided to Unaccompanied Alien Children (0970-NEW)

AGENCY: Office of Refugee Resettlement; Administration for Children and Families; U.S. Department of Health and Human Services.

ACTION: Request for public comments.

SUMMARY: The Office of Refugee Resettlement (ORR), Administration for Children and Families (ACF), U.S. Department of Health and Human Services, requests approval from the Office of Management and Budget (OMB) and invites public comments on the proposed information collection, including proposed changes. The request consists of several forms that will allow the Unaccompanied Alien Children (UAC) Bureau to continue providing statutorily mandated and discretionary services to promote safe reunifications between sponsors and unaccompanied alien children (children/child) released from ORR care and custody.

DATES: Comments due June 26, 2025. OMB is required to decide about the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this information collection by selecting “Currently under 30-day Review—Open for Public Comments” or by using the search function. You can also obtain copies of the proposed collection of information by emailing infocollection@acf.hhs.gov. Identify all emailed requests by the title of the information collection.

SUPPLEMENTARY INFORMATION:

Description: ORR has undertaken a reorganization of its information collections to promote operational efficiency. The reorganization will result in more collections that contain fewer forms under a single OMB number. This request is to create a new information collection that contains forms associated with the provision of home study and post-release services (HS/PRS) to children and their sponsors. This information collection will contain a total of six revised forms transferred from three existing information collections. The forms and the information collections under which they are currently approved are as follows:

• Administration and Oversight of the Unaccompanied Alien Children Program (OMB #0970-0547):

○ Notification of Concern (Form A-7)

• Services Provided to Unaccompanied Alien Children (OMB #0970-0553):

○ Home Study Assessment (Form S-6)

○ Post-Release Service Referral (Form S-19)

○ Post-Release Services Report (Form S-22)

○ Home Study Referral (Form S-26)

• Release of Unaccompanied Alien Children from ORR Custody (OMB #0970-0552):

○ Virtual Check-in Questionnaire (Form R-6)

These forms are completed by care provider case managers at care provider facilities to initiate the referral process for children and sponsors to receive HS/PRS and to document the outcome of safety and well-being follow-up calls to sponsors and released children; by PRS caseworkers to document the provision of PRS, to capture high-level milestones in the child's case after reunification; and to notify ORR of concerning situations that affect a child's safety and well-being, post-release; by home study caseworkers to document and assess the conditions present in the sponsor's home that may impact the released child's safety and wellbeing. These forms are documentary in nature and a critical component of the child's case file.

In addition to grouping forms related to HS/PRS together in this information collection, ORR is proposing the following revisions:

• Global Changes across all currently approved forms:

○ Replace “Minor” with “Child”; replace “UC” or “Unaccompanied Child” with “UAC” or “Unaccompanied Alien Child” wherever they appear in conformance with terminology originating in the Homeland Security Act of 2002.

○ Replace “Gender” with “Sex”; “male” and “female” as the only menu options in conformance with Executive Order (E.O.) 14168 (Defending Women from Gender Ideology Extremism and Restoring Biological Truth to the Federal Government).

○ Remove sponsor categories “2A” and “2B”; Replace with “Category 2” to conform with updates to Unaccompanied Alien Children policy Field Guidance #26—Fingerprint Background Checks and Acceptable Supporting Documentation for a Family Reunification Application which eliminates the past primary caregiver (“2A”) sponsor category distinction.

○ Change all fields that capture both date and time to only capture the date where time of completion is immaterial.

○ Add Physical Location of the Child field to the Unaccompanied Alien Children Basic Information section which populates across many forms in the Unaccompanied Alien Children Portal case management system.

• Notification of Concern (Form A-7):

○ Add fields to document gang affiliation including the sub-fields:

Gang Affiliation: Child—

• Child self-admission;

• Suspected.

Gang Affiliation: Sponsor—

• Sponsor self-admission;

• Suspected.

○ Adjust the burden estimate to account for a decrease in the number of children placed in ORR care, reflect that the form is completed by three different groups of respondents, and to reflect an increase in the overall number of fields the respondent will need to complete. The annual number of respondents increased from 60 HS/PRS providers to include 60 HS/PRS providers, 300 care provider case managers, and 78 ORR National Call Center (NCC) call specialists. The annual number of responses per respondent decreased from 75 responses per HS/PRS Caseworker to 41, with the average number of responses per care provider case manager increasing from 0 to 8 and the average number of responses per ORR NCC call specialist increasing from 0 to 31. The average burden hours per response increased from 0.25 hours to 0.33 hours to reflect the addition of new fields described above.

• Home Study Assessment (Form S-6): ORR currently has two approved version of this form-one in Word and one that was designed for the Unaccompanied Children Path system, which was never implemented. ORR proposes discontinuing the Word version and converting the Unaccompanied Children Path version into a PDF form with the following revisions:

○ Add the following fields to the “Sponsor Identifying Information” section.

Phone Number;

Relationship to Child;

Marital Status.

○ Reword existing field labels and add the following fields to the “Case Information” section:

Date Referred for Home Study;

Current Care Provider Facility Name;

Care Provider Staff Name;

Care Provider Staff Phone;

Care Provider Staff email;

Supervisor Phone;

Supervisor email;

Caseworker Phone;

Caseworker email;

Subcontractor Phone;

Subcontractor email.

○ Under the “Reason for Referral” section:

Change the “Referral Type” field from open text to a dropdown with options for “TVPRA,” “Mandated,” and “Discretionary”.

Change the “Reason for Referral” field from open text to a list of checkbox options that align with reasons a child's case would be referred for a home study per 45 CFR 410.1204.

Add an open text field for “Additional Information Supporting Referral (if Necessary)”.

Remove “Concerns to investigate during visit” field.

○ Under the “Household Members” section:

Change the “Relationship to Sponsor” and “Relationship to Child” from open text to dropdown fields.

Add the following fields with “Yes”/“No” dropdown:

• Age;

• Present during home study?;

• Child Abuse/Neglect (CA/N) Check?;

• Sex Offender Registry Check?;

• Fingerprinted?

Remove the following fields:

• Current Household Member;

• Record ID;

• Related HS Assessment;

• Entry ID.

○ Remove the following fields from the “Community Resources” section:

HS Assessment;

Entry.

○ Under the “Unaccompanied Alien Child Background” section:

Expand a single question concerning a child's individualized needs impacting their daily function into six discreet questions pertaining to physical disabilities, developmental disabilities (including intellectual or cognitive disabilities), serious health conditions (including mental health conditions) which may be considered disabilities, current medication regimen, special dietary needs, and the routine use of medical equipment. Each new question includes “Yes/No” radio buttons and an open text field for further elaboration if applicable.

Add “Does the child have an Individualized Section 504 Plan?” with instructions to summarize if yes, concerning the services or accommodations that will need to be maintained post-release. This question was added in response to comments received during the 60-day public comment period.

Add a field to document the child's perceived benefits of being released to the sponsor in response to comments received during the 60-day public comment period.

Change the type of response solicited by a question concerning the child's need for support due to criminal, substance use, and gang affiliation histories from “yes/no” radio buttons to checkboxes for each type of history, and add an open text field for further elaboration, if needed.

○ Under the “Sponsor Background” section:

Add the following questions:

• Does the sponsor have a disability? If yes, describe what reasonable accommodations, if any, are required to facilitate the child's safe release to the sponsor. This addition is the result of a suggestion ORR received during the 60-day public comment period.

• How does the sponsor manage the concerns reported above?

• Ask the sponsor to list any local resources they rely on or consider to be an asset to the community (ex: libraries, parks, clinics, church, community center, nonprofit organizations, social/affinity groups, etc.).

• Follow up: Does the sponsor appear knowledgeable about their community? (Yes/No).

Reorganize the three checkboxes confirming that the sponsor was provided certain information into five checkboxes.

○ Under the Information Provided to the Sponsor sub-section, add “For a child with an identified disability: The sponsor was provided information regarding the child's disability-related needs and specific post-release services and supports available in the sponsor's community. This addition is the result of a suggestion ORR received during the 60-day public comment period.

○ In the Sponsor's Motivation and Relationship to the Child Section, add two open text boxes that will allow for further elaboration when the user selects “yes” for one of the following questions:

Does the sponsor have a family support system in the U.S.?

Was the sponsor aware or involved in the child's plan to migrate to the U.S.?

○ Under the Sponsor's Parenting Ability section:

Add the following fields:

• Is the sponsor aware of state and local laws on supervision of children?

• If yes, describe the life changes and plans to accommodate the child. (Follow-up to a question concerning expected major life changes for the sponsor) What is the sponsor's understanding of the child's health needs?

• What is the sponsor's understanding of the child's mental health needs?

Revise the question “Is the sponsor aware of any special needs, mental health or complex needs of the child” to “Is the sponsor prepared to support the health needs of the child?”

Under the Legal Services section, replace the abbreviation “LOPC” with “Legal Orientation Program for Custodians presentation.”

Under the Financial section, add “Does the sponsor understand that they are not authorized to charge the child or their family any fees or be reimbursed for their costs?”

○ Add the following under the Home and Community Section:

Which of the following accessible features are present in the sponsor home? (Checkboxes: Exterior ramps, Elevator, Grab bars, Wide hallways and doorways, Motion-sensitive lighting, Walk/roll-in shower or tub, Low countertops, Raised-height toilet, Other (Please Describe). An open textbox to provide more information if the user selects “Other” is also included.)

Are Sleeping Quarters and common areas handicapped accessible?

Does the sponsor have knowledge on how to access public transportation?

○ Under the Summary section:

Clarify the summary question by breaking it into three distinct questions

• “Summarize any new concerns raised during the home study.”

• “How can these issues or concerns be mitigated and how much time is needed to address these concerns?

• “Is there an active plan in place to address the above concerns? YES/NO”.

Add “If the outstanding concerns are related to the child's disability, what affirmative support and assistance should ORR provide to enable the child's safe release? Describe the post-release community-based services and supports the sponsor may need help accessing and address whether these services will help enable the child's safe release” This addition is the result of a suggestion ORR received during the 60-day public comment period.

Add “What are the potential benefits of releasing the child to this sponsor in this community setting?” This addition is the result of a suggestion ORR received during the 60-day public comment period.

○ Adjust the burden estimate to reflect a decrease in the number of home studies conducted resulting from an overall decrease in the projected number of referrals, and an increase in the overall number of fields the respondent will need to complete. The annual number of respondents is unchanged at 60, the annual number of responses per respondent increased from 81 to 82, and the average burden hours per response increased from 0.75 hours to 1.0 hours.

• Post-Release Services Referral (Form S-19):

○ Move the following fields to appear closer to the top of the form:

Referral ID;

Referral Status;

Acceptance Date;

Expected Closure Date.

○ Add the following fields to both the “PRS-TVPRA” section and “PRS” sections under Sponsor Information:

Sponsor Phone Number;

Sponsor relationship to Child;

Sponsor email.

○ Add the following fields under both the “PRS-TVPRA” section and “PRS” sections under the “Referring Facility Information” section:

Case Manager Name;

Unification Specialist Name;

Unification Specialist email.

○ Add a new section header called “Referral Information” and group the following fields under the new header:

What Provider Conducted the Home Study;

Reason for Referral;

Special Instructions.

○ Add “Additional Details” field with open text next to the “Special Instructions” field.

○ For the “Reason for Referral” field under the PRS-TVPRA section, remove the “ORR Discretionary” option and rephrase the “Physical or Sexual Abuse by Caregiver (TVPRA)” field to “Physical or Sexual Abuse (TVPRA)”.

○ For the “Reason for Referral” field under the “PRS” section:

Rephrase the “Non-relative Sponsor, Multiple Sponsorship (ORR Mandated)” field to “Multiple concurrent sponsorships with at least one unrelated child (ORR Mandated)”.

Add an option for “Previously sponsored two or more children (ORR Mandated)”.

Rephrase the “UC Going to Non-Relative Sponsor (ORR Mandated No Home Study)” field to “Child Going to Non-Relative Sponsor (No Home Study)”.

○ Adjust the burden estimate to account for an increase in the number of care provider facilities completing the form since it's last renewal and a projected decrease in the number of children placed in ORR care, as well as the expansion of Post-Release Services, which are now offered to every child. These changes also reflect a slight increase in the overall number of fields the respondent will need to complete. The annual number of respondents increased from 216 to 300, the annual number of responses per respondent increased from 46 to 217 and the average burden hours per response increased from 0.33 hours to 0.5 hours.

• Post-Release Services Report (S-22): ORR plans to digitize and incorporate this form into its new interactive, web-based application for PRS. The digitized version of the form collects that same information as the currently approved version with some minor modifications as follows:

○ Change the form title from “Post-Release Services Event” to “Post-Release Services Report”.

○ Change manual entry fields to auto-populate wherever possible.

○ Reword field labels for clarity where needed.

○ Add instructional text to help the user navigate the form.

○ Adjust the burden estimate to account for a projected decrease in the number of children placed in ORR care while concurrently expanding post-release services by offering them to every child. Additionally, the revised burden estimate reflects a slight increase in the overall number of fields the respondent will need to complete. The annual number of respondents remains unchanged at 60, and the annual number of responses per respondent increased from 968 to 2,722. The average burden hours per response increased from 1.0 to 1.08 hours.

• Home Study Referral (S-26):

○ Add radio buttons at the top of the form with the following options:

TVPRA;

ORR-Mandated;

Discretionary.

○ Move the following fields to appear closer to the top of the form:

Referral ID;

Referral Status;

Acceptance Date;

Expected Closure Date;

○ Add the following fields to both the PRS-TVPRA section and PRS sections under Sponsor Information:

Sponsor Phone Number;

Sponsor relationship to Child;

Sponsor email.

○ Add the following fields under both the PRS-TVPRA section and PRS sections under the Referring Facility Information section:

Case Manager Name;

Unification Specialist Name;

Unification Specialist email.

○ Add a new section header called “Referral Information” and group the following fields under the new header:

What Provider Conducted the Home Study;

Reason for Referral;

Special Instructions.

○ Add “Additional Details” field with open text next to the “Special Instructions” field.

○ For the “Reason for Referral” field:

Rephrase the “Non-relative Sponsor, Multiple Sponsorship (ORR Mandated)” field to “Multiple concurrent sponsorships with at least one unrelated child (ORR Mandated)”.

Add an option for “Previously sponsored two or more children (ORR Mandated)”.

Rephrase the “UC Going to Non-Relative Sponsor (ORR Mandated No Home Study)” field to “Child Going to Non-Relative Sponsor (No Home Study)”.

○ Adjust the burden estimate to account for an increase in the number of care provider facilities completing the form and a projected decrease in the number of children placed in ORR care. These changes also reflect a slight increase in the overall number of fields the respondent will need to complete. The annual number of respondents increased from 216 to 300, the annual number of responses per respondent increased from 46 to 217 and the average burden hours per response increased from 0.33 hours to 0.5 hours.

• Virtual Check-In Questionnaire (Form R-6): ORR currently has two approved versions of this form—one in Excel and one that was designed for a web-based application. ORR proposes discontinuing the Excel version and plans to incorporate the other version into its new interactive, web-based application for PRS with some minor modifications as follows:

○ Change manual entry fields to auto-populate wherever possible.

○ Reword field labels for clarity where needed.

○ Add instructional text to help the user navigate the form.

○ Adjust the burden estimate to account for an increase in the number of PRS providers completing the form and to better estimate the number of children and sponsors responding to the questionnaire. The annual number of respondents decreased from 128,487 to 65,000 for both children and sponsors and increased from 40 to 60 for PRS providers. The annual number of responses per respondent decreased from 19,273 to 3,250 for PRS providers, and remains unchanged at 3 each for sponsors and children completing all three of the scheduled check-ins.

Respondents: ORR grantee and contractor staff, released children, and their sponsors.

Annual Burden Estimates:

Annual Burden Estimate for Respondents
Form | Annual number of respondents | Number of responses per respondent | Average burden hours per response | Annual total burden hours
Notification of Concern (Form A-7)—HSPRS Caseworker | 60 | 41 | 0.33 | 811.80
Notification of Concern (Form A-7)—Care Provider Case Manager | 300 | 8 | 0.33 | 792.00
Notification of Concern (Form A-7)—ORR NCC Staff | 78 | 31 | 0.33 | 797.94
Home Study Assessment (Form S-6) | 60 | 82 | 1.00 | 4,920.00
Post-Release Services Referral (Form S-19) | 300 | 217 | 0.50 | 32,550.00
Post-Release Services Report (Form S-22) | 60 | 2,722 | 1.08 | 176,385.60
Home Study Referral (Form S-26) | 300 | 217 | 0.50 | 32,550.00
Virtual Check-in Questionnaire (Form R-6)—Sponsor | 65,000 | 3.0 | 0.25 | 48,750.00
Virtual Check-in Questionnaire (Form R-6)—Child | 65,000 | 3.0 | 0.25 | 48,750.00
Virtual Check-in Questionnaire (Form R-6)—Provider | 60 | 3,250 | 0.58 | 113,100.00
Estimated Annual Burden Hours Total |  |  |  | 459,407.34

Authority: 6 U.S.C. 279; 8 U.S.C. 1232.

Mary C. Jones,
ACF/OPRE Certifying Officer.

[FR Doc. 2025-09372 Filed 5-23-25; 8:45 am]

BILLING CODE 4184-45-P